DEPARTMENT OF ENERGY

Federal Energy Regulatory Commission

Combined Notice of Filings #1

August 26, 2005.

Take notice that the Commission received the following electric rate filings:

Docket Numbers: ER99-3125-002.

Applicants: Minergy Neenah, L.L.C.

Description: Minergy Neenah, L.L.C. submits First Revised Sheet No. 3, FERC Electric Tariff, Original Volume No. 1 to comply with the Commission's letter order issued 7/22/05 in Docket No. ER99-3125-001, 112 FERC ¶ 61,090 (2005).

Filed Date: 08/22/2005.

Accession Number: 20050824-0170.

Comment Date: 5 p.m. Eastern Time on Monday, September 12, 2005.

Docket Numbers: ER99-3168-004; ER05-92-002; ER02-2453-003; ER03-382-004; ER02-2451-003; ER02-2450-003; ER05-143-002; ER02-2452-003; ER00-2508-002; ER00-1749-003; ER02-2449-003; ER99-1801-008; ER01-3035-006; ER02-1762-004; ER04-944-002; ER01-852-005.

Applicants: Astoria Generation Company, L.P.; Orion Power MidWest, L.P., Reliant Energy Coolwater, Inc.; Reliant Energy Electric Solutions, LLC; Reliant Energy Ellwood, Inc.; Reliant Energy Etiwanda, Inc.; Reliant Energy Florida, LLC; Reliant Energy Mandalay, Inc.; Reliant Energy Mid-Atlantic Power Holdings, LLC; Reliant Energy New Jersey Holdings, LLC; Reliant Energy Ormond Beach, Inc.; Reliant Energy Services, Inc.; Reliant Energy Seward, LLC; Reliant Energy Solutions East, LLC; Reliant Energy Wholesale Generation, LLC; Twelvepole Creek, LLC.

Description: The above referenced applicants submit amended tariff sheets to correct typographical errors in previously-filed market behavior rules.

Filed Date: 08/18/2005.

Accession Number: 20050824-0225.

Comment Date: 5 p.m. Eastern Time on Thursday, September 8, 2005.

Docket Numbers: ER02-2042-003.

Applicants: UGI Utilities, Inc.

Description: UGI Utilities, Inc. submits its triennial market-power update and revised tariff sheets.

Date: 08/22/2005.

Accession Number: 20050824-0175.

Comment Date: 5 p.m. Eastern Time on Monday, September 12, 2005.

Docket Numbers: ER04-230-014.

Applicants: New York Independent System Operator, Inc.

Description: New York Independent System Operator, Inc. submits an amendment to its compliance filing submitted on 6/1/05 in response to the Commission's deficiency letter issued 7/13/05 in Docket No. ER04-230-010.

Filed Date: 08/12/2005.

Accession Number: 20050824-0176.

Comment Date: 5 p.m. Eastern Time on Friday, September 2, 2005.

Docket Numbers: ER05-285-002.

Applicants: Midwest Independent Transmission System Operator, Inc.

Description: Midwest Independent Transmission System Operator, Inc. submits its refund report filed pursuant to the Commission's 5/31/05 Order in Docket Nos. ER05-285-000 and 001.

Filed Date: 08/22/2005.

Accession Number: 20050824-0174.

Comment Date: 5 p.m. Eastern Time on Monday, September 12, 2005.

Docket Numbers: ER05-666-004.

Applicants: Southwest Power Pool, Inc.

Description: Southwest Power Pool, Inc. submits its compliance filing, which provides revisions to its open access transmission tariff pursuant to the Commission's Order issued 7/21/05, 112 FERC ¶ 61,100.

Filed Date: 08/22/2005.

Accession Number: 20050824-0169.

Comment Date: 5 p.m. Eastern Time on Monday, September 12, 2005.

Docket Numbers: ER05-1139-001; ER01-468-004; ER05-1140-001; ER00-3621-005; ER05-1141-001; ER00-3746-007; ER05-1142-002.

Applicants: Dominion Energy Marketing, Inc.; Dominion Nuclear Connecticut, Inc.; Dominion Nuclear Marketing III, L.L.C.; Kincaid Generation, L.L.C.

Description: The above referenced applicants submit revised tariff sheets amending two collective 6/24/05 filings.

Filed Date: 08/18/2005.

Accession Number: 20050824-0013.

Comment Date: 5 p.m. Eastern Time on Thursday, September 8, 2005.

Docket Numbers: ER05-1251-001.

Applicants: Madison Windpower, LLC.

Description: Madison Windpower, LLC submits a supplement to its Notice of Cancellation filed on 7/26/05 in Docket No. ER05-1251-000.

Filed Date: 08/22/2005.

Accession Number: 20050824-0173.

Comment Date: 5 p.m. Eastern Time on Monday, September 12, 2005.

Docket Numbers: ER05-1301-001.

Applicants: Cogentrix Energy Power Marketing, Inc.

Description: Cogentrix Energy Power Marketing, Inc. submits a supplement to its Notice of Cancellation filed on 8/8/05 in Docket No. ER05-1301-000.

Filed Date: 08/22/2005.

Accession Number: 20050824-0172.

Comment Date: 5 p.m. Eastern Time on Monday, September 12, 2005.

Docket Numbers: ER05-1366-000; ER05-1367-000; ER05-1368-000; ER05-1369-000; ER05-1370-000; ER05-1371-000; ER05-1372-000; ER05-1373-000; ER05-1374-000; ER05-1375-000; ER05-1376-000.

Applicants: Cincinnati Gas & Electric Company; PSI Energy, Inc.; Union Light Heat & Power Company; Cinergy Marketing & Trading, LP; Brownsville Power I, L.L.C.; Caledonia Power I, L.L.C.; CinCap IV, LLC; CinCap V, LLC; Cinergy Capital & Trading, Inc.; Cinergy Power Investments, Inc.; St. Paul Cogeneration, LLC.

Description: The above referenced applicants submits their initial and amended market based rate tariffs, to implement certain organizational changes.

Filed Date: 08/19/2005.

Accession Number: 20050824-0237.

Comment Date: 5 p.m. Eastern Time on Friday, September 9, 2005.

Docket Numbers: ER05-1379-000.

Applicants: American Electric Power Services Corporation.

Description: American Electric Power Services Corporation, as agent for its affiliate Appalachian Power Company, submits an Interconnection and Local Delivery Service Agreement with Old Dominion Electric Cooperative.

Filed Date: 08/22/2005.

Accession Number: 20050824-0230.

Comment Date: 5 p.m. Eastern Time on Monday, September 12, 2005.

Docket Numbers: ER05-1380-000.

Applicants: American Electric Power Services Corporation.

Description: American Electric Power Services Corporation, as agent for its affiliate Indiana Michigan Power Company, submits a revision to the Interconnection and Local Delivery Service Agreement No. 1253 with Hoosier Energy Rural Electric Cooperative, Inc.

Filed Date: 08/19/2005.

Accession Number: 20050824-0229.

Comment Date: 5 p.m. Eastern Time on Friday, September 9, 2005.

Docket Numbers: ER05-1381-000.

Applicants: Lyon Rural Electric Cooperative.

Description: Lyon Rural Electric Cooperative submits notification of withdrawal of its Rate Schedule No. 1.

Filed Date: 08/22/2005.

Accession Number: 20050824-0227.

Comment Date: 5 p.m. Eastern Time on Monday, September 12, 2005.

Docket Numbers: ER05-1382-000.

Applicants: McDonough Power Cooperative.

Description: McDonough Power Cooperative submits notification of withdrawal of its Rate Schedule No. 1.

Filed Date: 08/22/2005.

Accession Number: 20050824-0226.

Comment Date: 5 p.m. Eastern Time on Monday, September 12, 2005.

Docket Numbers: ER05-1383-000; ES003-9-000; ES00-22-000.

Applicants: Sun River Electric Cooperative, Inc.

Description: Sun River Electric Cooperative Inc. submits notification of withdrawal of its Rate Schedule No. 1.

Filed Date: 08/16/2005.

Accession Number: 20050824-0177.

Comment Date: 5 p.m. Eastern Time on Tuesday, September 6, 2005.

Any person desiring to intervene or to protest in any of the above proceedings must file in accordance with Rules 211 and 214 of the Commission's Rules of Practice and Procedure (18 CFR 385.211 and 385.214) on or before 5 p.m. Eastern Time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Linda Mitry,
Deputy Secretary.

[FR Doc. E5-4790 Filed 8-31-05; 8:45 am]

BILLING CODE 6717-01-P